CORPORATION FOR NATIONAL AND COMMUNITY SERVICE

45 CFR Part 2522

RIN 3045-AA84

AmeriCorps State and National Updates

AGENCY: Corporation for National and Community Service.

ACTION: Proposed rule.

SUMMARY: The Corporation for National and Community Service (operating as AmeriCorps) is requesting public comment on a proposal to revise AmeriCorps State and National program regulations on the number of terms for which AmeriCorps will fund living allowances and other benefits for members. The proposal would provide that AmeriCorps funding may be used for living allowances and other benefits for members for as long as it takes the members to either earn the aggregate value of two Segal Education Awards or four terms, whichever is longer.

DATES: Written comments must be submitted by September 27, 2024.

ADDRESSES: Please send your comments electronically through the Federal government's one-stop rulemaking website at www.regulations.gov. Alternatively, you may send your comments to Elizabeth Appel, Associate General Counsel, at eappel@cns.gov or by mail to AmeriCorps (ATTN: Elizabeth Appel), 250 E Street SW, Washington, DC 20525.

FOR FURTHER INFORMATION CONTACT: Jennifer Bastress Tahmasebi, Deputy Director, AmeriCorps State and National at JBastressTahmasebi@americorps.gov, (202) 606-6667; or Elizabeth Appel, Associate General Counsel, at EAppel@americorps.gov, (202) 967-5070.

SUPPLEMENTARY INFORMATION:

I. Overview of Proposed Rule (§ 2522.235)

II. Regulatory Analyses

A. Executive Orders 12866 and 13563

B. Regulatory Flexibility Act

C. Unfunded Mandates Reform Act of 1995

D. Paperwork Reduction Act

E. Executive Order 13132, Federalism

F. Takings (Executive Order 12630)

G. Civil Justice Reform (Executive Order 12988)

H. Consultation With Indian Tribes (Executive Order 13175)

I. Clarity of This Regulation

I. Overview of Proposed Rule (§ 2522.235)

AmeriCorps recently revised AmeriCorps State and National program regulations to, among other changes, remove the four-term limit on AmeriCorps State and National members' service. See 89 FR 46024 (May 28, 2024). That revision, which becomes effective October 1, 2024, allows members to serve as many terms as necessary to earn the value of two full-time education awards,¹ regardless of whether those terms are served on a full-time, part-time, or reduced part-time basis. To align with the existing limit to education awards funded by AmeriCorps, that final rule also clarified that AmeriCorps will fund benefits (e.g., living allowance, financial benefits during an extended term of disaster-related service, childcare, and health care) only up to the number of terms needed to attain those education awards.

¹ Separate regulations at 45 CFR 2525.50 limit participants to receiving no more than the value of two full-time education awards.

Full-time, part-time, and reduced part-time terms of service have different hour requirements and accordingly each take a different number of terms to reach the aggregate value of the two full-time education awards. See 45 CFR 2522.220. For example, a member serving a full-time term of service earns the value of one education award with each term of service, so full-time ASN members earn the aggregate value of two full-time education awards in two terms (which equates to two years for full-time members) A member serving a reduced part-time term of service earns 39 percent of the value of one education award (see 45 CFR 2525.100(b)), so reduced part-time ASN members earn the aggregate value of two full-time education awards in about five terms (which equates to five or more years for reduced part-time members).

Since publication of the final rule, several members of the public have contacted AmeriCorps to point out the negative effect this will have on grantees for whom members typically serve four full-time terms. With the prior four-term limit, those members could earn the aggregate value of two full-time education awards in two years and continue serving two more years to reach the four-term limit of receiving AmeriCorps living allowance and benefits. Under the final rule, those full-time members can no longer continue to serve (receiving AmeriCorps living allowance and benefits) those two years beyond the initial two years it took to earn the aggregate value of two full-time education awards. The members of the public noted a particularly negative effect on grantees in remote and rural locations who have a smaller pool of individuals willing to serve. These grantees rely on the willingness of their AmeriCorps members to serve full-time for four years.

Based on this input, AmeriCorps is proposing to add flexibility to the rule so that grantees and members who rely on the current state of being able to receive AmeriCorps funding for living allowances and benefits for up to four terms would continue to be able to receive that funding for four terms. The proposal also retains the final rule provision that allows AmeriCorps funding for the number of terms it takes to earn the aggregate value of two full-time education awards. Thus, members who serve less than full-time will continue to be funded for however many terms it takes to earn the aggregate value of two education awards.

The proposed change, which appears at § 2522.235, would provide that AmeriCorps will fund living allowances and other benefits only for the number of terms needed to attain the aggregate value of two full-time education awards or for four terms, whichever term duration is longer. Programs may continue to fund benefits from non-AmeriCorps resources, if they choose, for members who serve beyond that time. These term limits only apply to AmeriCorps State and National terms.

AmeriCorps is seeking comment on this proposal for a period of 30 days, which is shorter than the usual 60 days provided, because if this rulemaking is finalized, it will relieve a burden and may take effect on October 1, 2024, the same effective date as the other regulatory changes that were finalized in the May 28, 2024, rule.

II. Regulatory Analyses

A. Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. The Office of Information and Regulatory Affairs in the Office of Management and Budget has determined that this proposed rule is not a significant regulatory action.

B. Regulatory Flexibility Act

As required by the Regulatory Flexibility Act of 1980 (5 U.S.C. 601 et seq.), AmeriCorps certifies that this rulemaking, if adopted, will not have a significant economic impact on a substantial number of small entities. Most AmeriCorps State and National grantees are State Commissions and organizations that do not meet the definition of a small entity. Therefore, AmeriCorps has not performed the initial regulatory flexibility analysis that is required under the Regulatory Flexibility Act (5 U.S.C. 601 et seq.) for rules that are expected to have such results.

C. Unfunded Mandates Reform Act of 1995

For purposes of title II of the Unfunded Mandates Reform Act of 1995, 2 U.S.C. 1531-1538, as well as Executive Order 12875, this regulatory action does not contain any Federal mandate that may result in increased expenditures in Federal, State, local, or Tribal Governments in the aggregate, or impose an annual burden exceeding $100 million on the private sector.

D. Paperwork Reduction Act

Under the PRA, an agency may not conduct or sponsor a collection of information unless the collections of information display valid control numbers. This proposed rule does not include any information collection.

E. Executive Order 13132, Federalism

Executive Order 13132, Federalism, prohibits an agency from publishing any rule that has federalism implications if the rule imposes substantial direct compliance costs on State and local Governments and is not required by statute, or the rule preempts State law, unless the agency meets the consultation and funding requirements of section 6 of the Executive order. This rulemaking does not have any federalism implications, as described above.

F. Takings (Executive Order 12630)

This proposed rule does not affect a taking of private property or otherwise have taking implications under Executive Order 12630 because this proposed rule does not affect individual property rights protected by the Fifth Amendment or involve a compensable “taking.” A takings implication assessment is not required.

G. Civil Justice Reform (Executive Order 12988)

This proposed rule complies with the requirements of Executive Order 12988. Specifically, this rulemaking: (a) meets the criteria of section 3(a) requiring that all regulations be reviewed to eliminate errors and ambiguity and be written to minimize litigation; and (b) meets the criteria of section 3(b)(2) requiring that all regulations be written in clear language and contain clear legal standards.

H. Consultation With Indian Tribes (Executive Order 13175)

AmeriCorps recognizes the inherent sovereignty of Indian tribes and their right to self-governance. We have evaluated this rulemaking under our consultation policy and the criteria in Executive Order 13175 and determined that this proposed rule does not impose substantial direct effects on federally recognized Tribes.

I. Clarity of This Regulation

We are required by Executive Orders 12866 (section 1(b)(12)), and 12988 (section 3(b)(1)(B)), and 13563 (section 1(a)), and by the Presidential Memorandum of June 1, 1998, to write all rules in plain language. This means that each proposed rule we publish must: (a) be logically organized; (b) use the active voice to address readers directly; (c) use clear language rather than jargon; (d) be divided into short sections and sentences; and (e) use lists and tables wherever possible. If you feel that we have not met these requirements, please send us comments by one of the methods listed in the ADDRESSES section. To help us revise the rule, your comments should be as specific as possible.

List of Subjects in 45 CFR Part 2522

Grant programs—social programs, Reporting and recordkeeping requirements, Volunteers.

For the reasons stated in the preamble, under the authority of 42 U.S.C. 12651c(c), the Corporation for National and Community Service proposes to amend chapter XXV, title 45 of the Code of Federal Regulations as follows:

PART 2522—AMERICORPS PARTICIPANTS, PROGRAMS, AND APPLICANTS

1. The authority for part 2522 continues to read as follows:

Authority: 42 U.S.C. 12571-12595; 12651b-12651d; E.O. 13331, 69 FR 9911, Sec. 1612, Pub. L. 111-13.

2. Revise § 2522.235 to read as follows:

§ 2522.235 Is there a limit on the number of terms an individual may serve in an AmeriCorps State and National program?

The number of terms an individual may serve in an AmeriCorps State and National program is not limited, but the limitations in paragraphs (a) and (b) of this section apply.

(a) An individual may attain only the aggregate value of two full-time education awards.

(b) AmeriCorps will fund the benefits described in §§ 2522.240 through 2522.250 only for the number of terms needed to attain the aggregate value of two full-time education awards or for four terms, whichever is longer. Grantees may choose to fund benefits for any additional terms.

Andrea Grill,
Acting General Counsel.

[FR Doc. 2024-19349 Filed 8-27-24; 8:45 am]

BILLING CODE 6050-28-P